ENVIRONMENTAL PROTECTION AGENCY

40 CFR Part 300

[FRL-6969-7]

National Oil and Hazardous Substances Pollution Contingency Plan; National Priorities List

AGENCY: Environmental Protection Agency (EPA).

ACTION: Direct final deletion of the Salem Acres Superfund Site from the National Priorities List.

SUMMARY: EPA—New England is publishing a direct final deletion of the Salem Acres Superfund Site (Site), located in Salem, Massachusetts, from the National Priorities List (NPL).

The NPL, promulgated pursuant to Section 105 of the Comprehensive Environmental Response, Compensation, and Liability Act (CERCLA) of 1980, as amended, is Appendix B of 40 CFR Part 300, which is the National Oil and Hazardous Substances Pollution Contingency Plan (NCP). This direct final deletion is being published by EPA with the concurrence of the Commonwealth of Massachusetts, through the Department of Environmental Protection (MADEP) because EPA has determined that all appropriate response actions under CERCLA have been completed and, therefore, further remedial action pursuant to CERCLA is not appropriate.

DATES: This direct final deletion will be effective July 23, 2001 unless EPA receives adverse comments by June 21, 2001. If adverse comments are received, EPA will publish a timely withdrawal of the direct final deletion in the Federal Register informing the public that the deletion will not take effect.

ADDRESSES: Comments may be mailed to Elaine Stanley, Remedial Project Manager, U.S. Environmental Protection Agency—New England, One Congress Street, Suite 1100 (HBO), Boston, Massachusetts 02114-2023, (617) 918-1332, Fax (617) 918-1291, e-mail: stanley.elainet@epa.gov.

Information Repositories: Comprehensive information about the Site is available for viewing and copying at the Site information repositories located at: U.S. Environmental Protection Agency—New England Records Center, One Congress Street, Suite 1100, (HBS), Boston, Massachusetts 02114-2023, (617) 918-1440 or 1-800-252-3402-toll-free, Monday through Friday—9 a.m. to 5 p.m.; and the Salem Public Library, 370 Essex Street, Salem, Massachusetts 01970, (978) 744-0860, Monday through Thursday—9 a.m. to 9 p.m., Friday and Saturday—9 a.m. to 5 p.m. and Sunday—1 p.m. to 5 p.m.

FOR FURTHER INFORMATION CONTACT: Elaine Stanley, Remedial Project Manager, U.S. Environmental Protection Agency, One Congress Street, Suite 1100 (HBO), Boston, Massachusetts 02114-2023, (617) 918-1332, Fax (617) 918-1291, e-mail: stanley.elainet@epa.gov.

SUPPLEMENTARY INFORMATION:

Table of Contents

I. Introduction

II. NPL Deletion Criteria

III. Deletion Procedures

IV. Basis for Site Deletion

V. Deletion Action

I. Introduction

EPA—New England is publishing this direct final notice of deletion of the Salem Acres Superfund Site from the NPL.

The EPA identifies sites that appear to present a significant risk to public health or the environment and maintains the NPL as the list of those sites. As described in § 300.425(e)(3) of the NCP, sites deleted from the NPL remain eligible for remedial actions if conditions at a deleted site warrant such action.

Because EPA considers this action to be noncontroversial and routine, EPA is taking it without prior publication of a notice of intent to delete. This action will be effective July 23, 2001 unless EPA receives adverse comments by June 21, 2001 on this document. If adverse comments are received within the 30-day public comment period on this document, EPA will publish a timely withdrawal of this direct final deletion before the effective date of the deletion and the deletion will not take effect. EPA will, as appropriate, prepare a response to comments and continue with the deletion process on the basis of the notice of intent to delete and the comments already received. There will be no additional opportunity to comment.

Section II of this document explains the criteria for deleting sites from the NPL. Section III discusses the procedures that EPA is using for this action. Section IV discusses the Salem Acres Superfund Site and demonstrates how it meets the deletion criteria. Section V discusses EPA's action to delete the site from the NPL unless adverse comments are received during the public comment period.

II. NPL Deletion Criteria

Section 300.425(e) of the NCP provides that release may be deleted from the NPL where no further response is appropriate. In making a determination to delete a release from the NPL, EPA shall consider, in consultation with the State, whether any of the following criteria has been met:

(i) Responsible parties or other persons have implemented all appropriate response actions required;

(ii) All appropriate Fund-financed (Hazardous Substance Superfund Response Trust Fund) response under CERCLA has been implemented, and no further response action by responsible parties is appropriate; or

(iii) The remedial investigation has shown that the release poses no significant threat to public health or the environment and, therefore, taking of remedial measures is not appropriate.

Even if a site is deleted from the NPL, where hazardous substances, pollutants, or contaminants remain at the deleted site above levels that allow for unlimited use and unrestricted exposure, CERCLA Section 121(c), 42 U.S.C. 9621(c) requires that a subsequent review of the site will be conducted at least every five years after the initiation of the remedial action at the deleted site to ensure that the action remains protective of public health and the environment. In the case of this Site, a five year review is not necessary since all hazardous substances, pollutants and contaminants have been removed from the Site. If new information becomes available which indicates a need for further action, EPA may initiate remedial actions. Whenever there is a significant release from a site deleted from the NPL, the deleted site may be restored to the NPL without the application of the hazard ranking system.

III. Deletion Procedures

The following procedures apply to deletion of the Site:

(1) The EPA consulted with the Commonwealth of Massachusetts on the deletion of the Site from the NPL prior to developing this direct final deletion.

(2) The Commonwealth of Massachusetts concurred with the deletion of the Site from the NPL.

(3) Concurrently with the publication of this direct final deletion, a notice of the availability of the parallel notice of intent to delete published today in the “Proposed Rules” section of the Federal Register is being published in a major local newspaper of general circulation at or near the Site and is being distributed to appropriate federal, state and local government officials and other interested parties; the newspaper notice announces the 30-day public comment period concerning the notice of intent to delete the Site from the NPL.

(4) The EPA places copies of the documents supporting the deletion in the Site information repositories identified.

(5) If adverse comments are received within the 30-day public comment period on this document, EPA will publish a timely notice of withdrawal of this direct final deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Location

The Salem Acres Superfund Site (Site) is an approximately two hundred and thirty-five (235) acre parcel of land located in the Cities of Peabody and Salem, Massachusetts. The entire Site is zoned residential but remains undeveloped. The actual contaminated portion of the Site was confined to the southernmost thirteen acres of the property. This area borders a residential area to the south, wetlands to the east and west and undeveloped upland to the north.

Site History

The contaminated area consisted of three adjacent and separate disposal areas. There is a Responsible Party (RP) associated with each area. The first area where hazardous substances were located consisted of eight unlined sludge lagoons containing industrial sewage sludge originating from and disposed of by the South Essex Sewerage District (SESD), a wastewater treatment plant located in Salem, MA. The second area containing hazardous substances consisted of a coal fly ash pile disposed of by the Massachusetts Electric Company (MEC). Disposal activities by SESD and MEC occurred between the mid 1940's and 1969. The third and final area containing hazardous substances included an old landfill and three debris piles (collectively Landfill) which existed prior to the present ownership of the property. The owner of the property, Ugo DiBiase Salem Realty Trust (DiBiase) is the RP for the Landfill. Generation and disposal of the landfill and debris piles is not known. Although DiBiase did not contribute any waste to the Site, it was deemed liable by virtue of property ownership and failing to take any action to minimize exposure to contaminants. Operable Unit No. 1 includes the entire Site.

EPA conducted two Emergency Removal Actions (ERAs) at the Site, one in 1987 and one in 1990. EPA funded the first action and a portion of the second action with SESD performing and funding the remaining portion of the second action. The first action consisted of lagoon water removal and disposal, capping the lagoons, constructing a slurry wall and provide fencing to preclude site access. The second action consisted drum repacking and storage, fence and gate replacement and installation of signs.

Remedial Investigation and Feasibility Study (RI/FS)

The SESD completed a site-wide Remedial Investigation (RI) on May 29, 1992. They then conducted a Feasibility Study (FS) which was completed in June 1992. Results of the RI showed the nature and extent of contamination and assessed the associated risks from exposure. The contaminants of concern include polynuclear aromatic hydrocarbons (PAHs), polychlorinated biphenyls PCBs, dioxins/furans, volatile organic compounds (VOCs), semi-VOCs (sVOCs), chromium, arsenic, beryllium, vanadium and thallium. The concentration levels for the dioxin equivalent 2,3,7,8-TCDD found during the RA were below the cleanup level of 1 part per billion. The primary exposure pathways for both existing and future land use (residential) that showed unacceptable risk include: ingestion, dermal contact and inhalation of (airborne particulates originating from) sludge, fly ash and contaminated soil.

The FS developed and evaluated various remedies for each contaminated area, including RCRA capping, incineration, immobilization, thermal desorption, solvent extraction, in-situ vitrification, sludge fixation, excavation and off-site disposal.

Record of Decision Findings

A Record of Decision (ROD) was signed on March 25, 1993. The ROD required a preferred remedy of soil/sludge fixation, excavation and off-site disposal at a permitted landfill. Implementation of the preferred remedy required that certain conditions be met which included that the waste must be classified as non-hazardous under RCRA before shipment off-site. If these conditions could not be met, the ROD required construction of a RCRA cap over the hazardous substances to minimize possible exposure, implementation of institutional controls and long term monitoring to assure cap integrity. All areas to be remediated on Site are identified as Operable Unit No. 1. If the preferred remedy proved to be feasible, then no institutional controls or long term monitoring would be required.

On April 11, 1997, EPA issued an Explanation of Significant Difference (ESD). Based on updated toxicity data regarding carcinogenic polyaromatic hydrocarbons (cPAHs), EPA recalculated cleanup values for soils using this new information. The cleanup risk value established in the ROD for the Site was held constant, providing the same level of protectiveness. Each cPAH was given a separate cleanup value rather than a total cPAH value 1.2 parts per million (ppm) provided in the ROD. In addition, EPA calculated a new cleanup value for beryllium after a background study was performed. EPA redefined the background concentration of beryllium in soils as 1.0 ppm and revised the cleanup level from 0.42 ppm to 1.0. The excess lifetime cancer risk resulting from exposure to 1 ppm beryllium in soils given the exposure scenario and assumptions specified in the HRA is 2 × 10⁻⁶ which is consistent with EPA's goal for remedial actions (clean up to within the acceptable risk range of 1 × 10⁻⁴ to 1 × 10⁻⁶).

Characterization of Risk

The risk assessment performed as part of the RI for existing and future use scenarios determined that unacceptable risks exist from exposure to cPAHs, PCBs, dioxins/furans, VOCs, sVOCs, chromium, arsenic, beryllium, vanadium and thallium. The primary exposure pathways for both existing and future land use (residential) that showed unacceptable risk include: ingestion, dermal contact and inhalation of (airborne particulates originating from) sludge, fly ash and contaminated soil.

Response Actions

Each of the three RPs entered into separate Consent Decrees to pay for past costs expended at the Site, all future costs incurred at the Site and to perform separate remedial designs (RDs) (SESD and MEC only) and remedial actions (RAs) for each responsible area. The U.S. Army Corps of Engineers, on behalf of the EPA, performed the RD for the Landfill with Fund-lead monies. Just prior to the start of a fund lead RA, DiBiase entered into a Consent Decree to perform the RA and to cover certain past and all future costs associated with its cleanup. All future costs incurred by EPA and DEP for each of the three RD/RAs were covered by each respective RP. EPA retained the Corps to provide design review and evaluation, oversight of the remedial actions, including evaluation of quality assurance/quality control (QA/QC) procedures, performance standards and verified that the validated data met the established data quality objectives (DQOs) for each project.

For the first RA, DiBiase excavated approximately 2,000 cubic yards (cy) of material and disposed of it at an off-site permitted landfill. During the remedial action, fly ash was shown to be present well into the landfill. DiBiase removed approximately 1,500 cy of fly ash and MEC agreed to incur the costs associated with this work. Final site restoration of the Landfill and debris piles was performed in the spring of 1996.

MEC commenced RA activities in August 1995 and was substantially completed but discontinued in December 1995 at the boundary of the fly ash area and the adjacent wetland. Approximately 11,000 cy of fly ash and approximately 6,100 cy of adjacent contaminated soils were excavated and shipped off-site to a permitted special waste landfill located in New Hampshire. Site restoration was performed in the spring of 1996.

MEC excavated the remaining fly ash found in the wetlands in August 1999. Approximately 1,000 cy of fly ash was removed from the wetland and shipped off-site to an appropriate landfill. Restoration of the wetland included seeding the slopes with an appropriate wetland soils and seed mix. A final inspection was performed on August 18, 1999. This is the date for which all construction activities were considered complete for the entire Site.

SESD performed treatability tests for the fixation of the sludges during the pre-design phase. The purpose of fixation was to render any ignitable sludges non-ignitable. The treatability study shown that the sludges were non-ignitable and non-RCRA toxic and thus not RCRA-characteristic hazardous waste. SESD implemented the remedy of excavation and off-site disposal. The remedial work commenced in September 1996 and substantially completed in September 1997. Final site restoration was completed in the spring of 1998. A final site inspection for the sludge areas occurred on April 29, 1999.

A total of 28,755 tons of sludge were excavated and disposed of off-site at a permitted solid waste disposal facility located in Maine. A total of 60,304 tons of soil were excavated and disposed of at a solid waste disposal facility in Massachusetts. The slurry wall, sludge lagoon HDPE covers installed during the 1987 ERA and other demolition debris were also removed and sent to the Massachusetts disposal facility. A total of approximately 7.5 million gallons of site water accumulated in the excavated areas were collected and discharged to the SESD treatment plant for treatment via municipal sewer. The water was tested regularly to ensure compliance with the plant's pre-treatment limits. The high volume of water that accumulated in the excavated areas was due to the occurrence of a hundred year storm event, unanticipated depth of excavation and contractor delays based on cost claims with SESD.

Each of the RPs monitored surface water and sediments in the wetlands prior to and after their remediation. SESD was also tasked to monitor Site ground water during and after remediation. The last and final ground water sampling event occurred in May of 1999. The results showed that ground water was not impacted by any remediation. Ground water had also not been impacted by past disposal of materials at the Site.

Cleanup Standards

Remedial action cleanup activities at the Site were consistent with the NCP, the ROD, the ESD and with each RD/RA Consent Decree and provides protection to human health and the environment. RD/RA plans for all phases of construction included a Quality Assurance Project Plan (QAPPs) and incorporated all EPA and State quality assurance and quality control procedures and protocols (where necessary). All procedures and protocol were followed for soil, sediment, water and air sampling during the RA. EPA analytical methods were used for the confirmatory and monitoring samples during all RA activities. EPA has determined that the analytical results, having been Tier III validated, are accurate to the degree needed to assure satisfactory execution of each RA, show that the cleanup standards have been met, and are consistent with the ROD/ESD and the RD plans and specifications.

Operations and Maintenance

The Site has been entirely cleaned up in accordance with the ROD, the ESD and the three CDs. There will be no need for operation and maintenance activities at the Site. The Site requires no institutional controls and now provides for unrestricted use. The Site is zoned as residential. The landowner has informally suggested that he may build multi-family residences on the Site but at the time of this writing, no definitive or formal plans have been made public.

Five-Year Review

No hazardous substances remain at the site above health-based levels after the completion of all remedial actions. Therefore, pursuant to CERCLA Section 121(c) and as provided in OSWER Directive 9355.7-02, Structure and Components of Five-Year Reviews, May 23, 1991 and OSWER Directive 9355.702A, Supplemental Five-Year Review Guidance, July, 26, 1994, five year reviews will not be necessary.

Community Involvement

Public participation activities have been satisfied as required in CERCLA Section 113(k), 42 U.S.C. 9613(k), and CERCLA Section 117, 42 U.S.C. 9617. Documents in the deletion docket which EPA relied on for recommendation of the deletion from the NPL are available to the public in the information repositories.

Informal public meetings were held in the neighborhood prior to and after each remedial action. Representatives from EPA, MADEP and the RPs with their consultants and contractors were present. These meetings proved to be extremely helpful in providing the public, especially the immediate neighborhood residents who would be most affected, with important information regarding activities associated with each remedial action. These meetings were also particularly useful for the agencies and the RPs in hearing and addressing the residents' concerns regarding on-site and off-site activities. Some examples of what the agencies and the RPs implemented as a result of these meetings included: prohibiting truck traffic before 8 a.m. and after 5 p.m. and during school bus pickup and drop off periods; setting a speed limit of 15 m.p.h. for all site-related vehicles on residential streets; daily street cleaning; air monitoring at the site gate adjacent to the neighborhood and the RPs agreeing to repave the neighborhood roadway used to transport wastes off-site.

V. Deletion Action

The EPA, with concurrence from the Commonwealth of Massachusetts, has determined that all appropriate responses under CERCLA have been completed, and that no further response actions, under CERCLA are necessary. Therefore, EPA is deleting the Site from the NPL.

Because EPA considers this action to be noncontroversial and routine, EPA is taking it without prior publication of a notice of intent to delete. This action will become effective July 23, 2001 unless EPA receives adverse comments by June 21, 2001. If adverse comments are received within the 30-day public comment period on this document, EPA will publish a timely withdrawal of this direct final deletion before the effective date of the deletion and it will not take effect and, EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: March 23, 2001.
Ira W. Leighton,
Acting Regional Administrator, U.S. EPA—New England.

For the reasons set out in this document, 40 CFR part 300 continues to read as follows:

PART 300—[AMENDED]

1. The authority citation for part 300 continues to read as follows:

Authority: 33 U.S.C. 1321(c)(2); 42 U.S.C. 9601-9657; E.O. 12777, 56 FR 54757, 3 CFR, 1991 Comp.; p. 351; E.O. 12580, 52 FR 2923, 3 CFR, 1987 Comp. p. 193.

Appendix B—[Amended]

2. Table 1 of Appendix B to part 300 is amended under Salem Acres Superfund Site by removing the “Salem Acres Superfund Site, Salem, Massachusetts”.

[FR Doc. 01-12709 Filed 5-21-01; 8:45 am]

BILLING CODE 6560-50-P